DEPARTMENT OF THE INTERIOR

Bureau of Ocean Energy Management

[Docket ID BOEM-2011-0036; OMB Number 1010-0048]

Information Collection; Geological and Geophysical Explorations of the Outer Continental Shelf; Submitted for OMB Review; Comment Request

ACTION: 30-day notice.

SUMMARY: To comply with the Paperwork Reduction Act of 1995 (PRA), we are notifying the public that we have submitted to OMB an information collection request (ICR) to renew approval of the paperwork requirements in the regulations under Geological and Geophysical (G&G) Explorations of the Outer Continental Shelf and related documents. This notice also provides the public a second opportunity to comment on the paperwork burden of these regulatory requirements.

DATES: Submit written comments by November 21, 2011.

ADDRESSES: Submit comments by either fax (202) 395-5806 or e-mail (OIRA_DOCKET@omb.eop.gov) directly to the Office of Information and Regulatory Affairs, Office of Management and Budget (OMB), Attention: Desk Officer for the Department of the Interior (1010-0048). Please also submit a copy of your comments to BOEM by any of the means below.

• Electronically: go to http://www.regulations.gov. In the entry titled, “Enter Keyword or ID,” enter BOEM-2011-0036 then click search. Follow the instructions to submit public comments and view supporting and related materials available for this collection. BOEM will post all comments.

• E-mail arlene.bajusz@boem.gov. Mail or hand-carry comments to: Department of the Interior; Bureau of Ocean Energy Management, Attention: Arlene Bajusz; 381 Elden Street, Herndon, Virginia 20170-4817. Please reference ICR 1010-0048 in your comment and include your name and return address.

FOR FURTHER INFORMATION CONTACT: Arlene Bajusz, Office of Policy, Regulations, and Analysis (703) 787-1025. To see a copy of the entire ICR submitted to OMB, go to http://www.reginfo.gov (select Information Collection Review, Currently Under Review). You may also contact Arlene Bajusz to obtain a copy, at no cost, of the regulations and form that require the subject collection of information.

SUPPLEMENTARY INFORMATION: Title: 30 CFR 551, Geological and Geophysical (G&G) Explorations of the Outer Continental Shelf.

Form: BOEM-0327, Application for Permit to Conduct Geological or Geophysical Exploration for Mineral Resources or Scientific Research on the Outer Continental Shelf.

OMB Control Number: 1010-0048.

Abstract: The Outer Continental Shelf (OCS) Lands Act, as amended (43 U.S.C. 1331 et seq. and 43 U.S.C. 1801 et seq.), authorizes the Secretary of the Interior to prescribe rules and regulations to administer leasing of mineral resources on the OCS.

The OCS Lands Act (43 U.S.C. 1340) also states that “any person authorized by the Secretary may conduct geological and geophysical explorations in the [O]uter Continental Shelf, which do not interfere with or endanger actual operations under any lease maintained or granted pursuant to this OCS Lands Act, and which are not unduly harmful to aquatic life in such area.” The section further requires that permits to conduct such activities may only be issued if it is determined that the applicant is qualified; the activities are not polluting, hazardous, or unsafe; they do not interfere with other users of the area; and they do not disturb a site, structure, or object of historical or archaeological significance. Applicants for permits are required to submit form BOEM-0327 to provide the information necessary to evaluate their qualifications. Upon approval, respondents are issued a permit. In this collection, the form is being modified to clarify for potential permittees existing requirements in light of new technologies. In particular, BOEM-0327 clarifies the type(s) of information and maps submitted as identified in Attachment 1, sections A, General Information, B & C Geological and Geophysical Exploration for Minerals and Scientific Research, and primarily D, Proprietary Information. These modifications reflect information and technology currently used and developed by industry.

The OCS Lands Act (43 U.S.C. 1352) further requires that certain costs be reimbursed to the parties submitting required G&G information and data. Under the OCS Lands Act, permittees are to be reimbursed for the costs of reproducing any G&G data required to be submitted. Permittees are to be reimbursed also for the reasonable cost of processing geophysical information required to be submitted when processing is in a form or manner required by the Director, BOEM, and is not used in the normal conduct of the business of the permittee.

The Independent Offices Appropriations Act (31 U.S.C. 9701), the Omnibus Appropriations Bill (Pub. L. 104-133, 110 Stat. 1321, April 26, 1996), and the OMB Circular A-25, authorize Federal agencies to recover the full cost of services that confer special benefits. All G&G permits are subject to cost recovery, and BOEM regulations specify service fees for these requests.

Effective October 1, 2011, the Department's responsibilities for leasing, exploration, and development of the nation's offshore resources became the responsibility of the Bureau of Ocean Energy Management (BOEM), per Secretarial Order 3299. Regulations to carry out these responsibilities are contained in 30 CFR 551 (previously assigned under 30 CFR 251). This request is a revision of the currently approved information collection (IC) because we are revising form BOEM-0327 to adapt to new advances in technology.

Responses to this collection are mandatory or required to obtain or retain a benefit. No questions of a sensitive nature are asked. BOEM protects proprietary information according to the Freedom of Information Act (5 U.S.C. 552) and its implementing regulations (43 CFR part 2), and under regulations at 30 CFR 551.

BOEM uses the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the government for certain costs. BOEM uses information collected to understand the G&G characteristics of oil- and gas-bearing physiographic regions of the OCS. It aids the Secretary in obtaining a proper balance among the potentials for environmental damage, the discovery of oil and gas, and adverse impacts on affected coastal states. Information from permittees is necessary to determine the propriety and amount of reimbursement.

Form BOEM-0327 is submitted under this part to determine if permittees have the necessary qualifications pertinent to G&G explorations or scientific research. This ICR also clarifies of the type(s) of information and maps submitted as identified in Attachment 1, sections A, General Information, B & C Geological and Geophysical Exploration for Minerals and Scientific Research, and primarily D, Proprietary Information of the form. These clarifications reflect information and technology currently used and developed by industry, in areas such as energy sources, navigation and location, maps, and charts, etc. This information can also be used to satisfy other environmental compliance requirements and is completed by industry in their normal course of business and does not represent any new or additional burden hours.

Frequency: Responses are generally on occasion or as specified in each permit.

Description of Respondents: Potential respondents comprise Federal oil, gas, or sulphur lessees and holders of pipeline rights-of-way.

Estimated Reporting and Recordkeeping Hour Burden: The estimated annual hour burden for this information collection is a total of 1,033 hours. The following table details the individual components and estimated hour burdens. In calculating the burdens, we assumed that respondents perform certain requirements in the normal course of their activities. We consider these to be usual and customary and took that into account in estimating the burden.

Citation 30 CFR 551 | Reporting and recordkeeping requirement | Hour burden | Average number of annual responses | Annual burden hours
|  | Non-hour cost burden*
30 CFR 551.1 through 551.6
551.4(a), (b); 551.5(a), (b), (d); 551.6; 551.7 | Apply for permits (form BOEM-0327) to conduct G&G exploration, including deep stratigraphic tests/revisions when necessary | 3 | 74 Applications | 222
|  | 74 applications x $2,012 = $148,888
551.4(b); 551.5(c), (d); 551.6 | File notices to conduct scientific research activities, including notice to BOEM prior to beginning and after concluding activities | 1 | 3 Notices | 3
551.6(b)(5) 551.7(b)(5) | Notify BOEM if specific actions should occur; report archaeological resources (no instances reported since 1982) | 1 | 1 Notice | 1
Subtotal |  |  | 78 responses | 226 hours
|  |  | $148,888 non-hour cost burden
30 CFR 551.7 through 551.9
551.7 | Submit information on test drilling activities under a permit | Burden included under BSEE regulations at 30 CFR 250, subpart D |  | 0
551.7(c) | Enter into agreement for group participation in test drilling, including publishing summary statement; provide BOEM copy of notice/list of participants (no agreements submitted since 1989) | 1 | 1 Agreement | 1
551.7(d) | Submit bond(s) on deep stratigraphic test. | Burden included under 30 CFR part 556 (1010-0006) |  | 0
551.8(a) | Request reimbursement for certain costs associated with BOEM inspections (no requests in many years) | 1 | 1 Request | 1
551.8(b), (c) | Submit modifications to, and status/final reports on, activities conducted under a permit | 2 | 55 Respondents x 3 Reports = 165 | 330
551.9(c) | Notify BOEM to relinquish a permit | ½ | 2 Notices | 1
Subtotal |  |  | 169 responses | 333 hours
30 CFR 551.10 through 551.13
551.10(c) | File appeals | Exempt under 5 CFR 1320.4(a)(2), (c) |  | 0
551.11; 551.12 | Notify BOEM and submit G&G data and/or information collected under a permit and/or processed by permittees or 3rd parties, including reports, logs or charts, results, analyses, descriptions, etc | 4 | 40 Submissions | 160
551.13 | Request reimbursement for certain costs associated with reproducing data/information | 2 | 40 Submissions | 80
Subtotal |  |  | 80 responses | 240 hours
30 CFR 551.14
551.14(a), (b) | Submit comments on BOEM intent to disclose data and/or information to the public | 1 | 1 Comment | 1
551.14(c)(2) | Submit comments on BOEM intent to disclose data and/or information to an independent contractor/agent | 1 | 1 Comment | 1
551.14(c)(4) | Contractor/agent submits written commitment not to sell, trade, license, or disclose data and/or information without BOEM consent | 1 | 1 Commitment | 1
551.1—551.14 | General departure and alternative compliance requests not specifically covered elsewhere in part 551 regulations | 1 | 1 Request | 1
Subtotal |  |  | 4 responses | 4 hours
Extension for Permit Form & Recordkeeping
BOEM-0327; 551.14(b) | Request extension of permit time period | 1 | 100 Extensions | 100
| Retain G&G data/information for 10 years and make available to BOEM upon request | 1 | 130 Record-keepers | 130
Subtotal |  |  | 230 responses | 230 hours
Total Burden |  |  | 561 Responses | 1,033 Hours
|  |  | $148,888 Non-Hour Cost Burden
* The non-hour cost burdens that are associated with cost recovery monies collected are based on actual submittals through Pay.gov for FY 2010.

Estimated Reporting and Recordkeeping Non-Hour Cost Burden: We have identified one non-hour cost burden for this collection of information. Under § 551.5(a) there is an application fee of $2,012 when respondents submit a permit application. We have not identified any other non-hour cost burden associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 30, 2011, we published a Federal Register notice (76 FR 38412) announcing that we would submit this ICR to OMB for approval. The notice provided the required 60-day comment period. In addition, § 551.15 provides the OMB control number for the information collection requirements imposed by the 30 CFR 551 regulation. The regulation also informs the public that they may comment at any time on the collections of information and provides the address to which they should send comments. We received two comments in response to the Federal Register notice. The first commenter, the Marine Mammal Commission stated that it was in support of our submission to OMB. The second commenter, Center for Regulatory Effectiveness, requested two actions. One, that we should state that we are not submitting any ICR for seismic regulations that is more stringent than current regulations, including NTL 2007-G02. Response: For the renewal of this ICR, we are not requesting anything more stringent than in current 30 CFR 551 regulations; NTL 2007-G02 is covered under OMB Control Number 1010-0151. Second, that we wait to submit the ICR to OMB. There is current on-going litigation pertaining to seismic regulations (BOEM vs environmental plaintiff(s)). Response: This particular ICR renewal pertains mostly to revising the form currently in use due to new developments in technology; we are not requesting any new requirements. If the lawsuit settlement or decree requires changes to the form and/or DOI regulations, information collection coordination and OMB approval will occur before the form is reissued or regulations are promulgated.

Public Availability of Comments: Before including your address, phone number, e-mail address, or other personal identifying information in your comment, you should be aware that your entire comment—including your personal identifying information—may be made publicly available at any time. While you can ask us in your comment to withhold your personal identifying information from public review, we cannot guarantee that we will be able to do so.

BOEM Information Collection Clearance Officer: Arlene Bajusz (703) 787-1025.

Dated: October 12, 2011.
Charles E. Norfleet,
Acting Chief, Office of Policy, Regulations, and Analysis.

[FR Doc. 2011-27331 Filed 10-20-11; 8:45 am]

BILLING CODE 4310-MR-P